DEPARTMENT OF THE INTERIOR

Fish and Wildlife Service

[FWS-R8-ES-2024-0089; FXES11140800000-245-FF08EVEN00]

Receipt of Incidental Take Permit Application for Participation in the General Conservation Plan for Oil and Gas Activities; Categorical Exclusion; Santa Barbara County, CA

AGENCY: Fish and Wildlife Service, Interior.

ACTION: Notice of availability; request for comments.

SUMMARY: We, the U.S. Fish and Wildlife Service (Service), announce receipt of an application from the Southern California Gas Company (SoCalGas) for an incidental take permit (ITP), pursuant to the Endangered Species Act, under the approved General Conservation Plan for Oil and Gas Activities (GCP). If granted, the ITP would authorize take of the California red-legged frog (Rana draytonii), incidental to activities within unincorporated Santa Barbara County, California. We request public comment on the application, and on the Service's preliminary determination that the proposed permitting action may be eligible for a categorical exclusion pursuant to the Council on Environmental Quality's National Environmental Policy Act (NEPA) regulations, the Department of the Interior's (DOI) NEPA regulations, and the DOI Departmental Manual. To make this preliminary determination, we prepared a low-effect screening form. The application and the screening form are available for public review. We invite comment from the public and local, State, Tribal, and Federal agencies.

DATES: We must receive your written comments on or before September 3, 2024.

ADDRESSES:

Obtaining Documents: The document this notice announces (draft screening form), as well as any comments and other materials that we receive, will be available for public inspection online in Docket No. FWS-R8-ES-2024-0089 at https://www.regulations.gov. The approved GCP and the associated final environmental assessment/finding of no significant impact are also available on that site. However, we are no longer taking comments on those finalized, approved documents.

Submitting Comments: If you wish to submit comments, you may do so in writing by one of the following methods:

• Online: https://www.regulations.gov. Follow the instructions for submitting comments on Docket No. FWS-R8-ES-2024-0089.

• U.S. mail: Public Comments Processing, Attn: Docket No. FWS-R8-ES-2024-0089; U.S. Fish and Wildlife Service, MS: PRB/3W; 5275 Leesburg Pike; Falls Church, VA 22041-3803.

FOR FURTHER INFORMATION CONTACT: Daniel Cisneros, Fish and Wildlife Biologist, by email at fw8venturaitp@fws.gov, by telephone at 805-677-1766, or by U.S. mail at the Ventura Fish and Wildlife Office, 2493 Portola Road, Suite B, Ventura, CA 93003. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: We, the U.S. Fish and Wildlife Service (Service), announce receipt of an application from the Southern California Gas company for an incidental take permit (ITP), pursuant to the Endangered Species Act of 1973, as amended (ESA; 16 U.S.C. 1531 et seq.), under the approved General Conservation Plan for Oil and Gas Activities (GCP). A GCP is a mechanism that meets the definition of a conservation plan in section 10(a)(1)(B) of the ESA and enables the construct of a programmatic permitting and conservation process to address a defined suite of proposed activities over a defined planning area. The application for an incidental take permit was made pursuant to section 10(a)(1)(B) of the ESA. The ITP, if granted, would authorize take of the federally threatened California red-legged frog (Rana draytonii) incidental to activities associated with temporary excavations and pipeline replacement of the existing natural gas transmission Line 247, west of the city of Goleta at 100 El Capitan Terrace Lane within unincorporated Santa Barbara County, California. The permit would be issued to the applicant under the GCP for Oil and Gas Activities, which was approved on June 27, 2022. Prior to approval, a notice of availability of the draft programmatic environmental assessment (EA) and GCP published on March 6, 2020 (85 FR 13181). The approved GCP and the associated final programmatic environmental assessment/finding of no significant impact are available on the Ventura Fish and Wildlife Office web page at https://www.fws.gov/media/habitat-conservation-plans-and-general-conservation-plans. We have also uploaded them to https://www.regulations.gov. However, we are no longer taking comments on these finalized, approved documents.

Documents for Public Comment

We invite public comment on the application for an ITP, the draft screening form we prepared in accordance with the National Environmental Policy Act of 1969 (NEPA; 42 U.S.C. 4321 et seq.), and on our preliminary determination that this proposed ITP may qualify for a categorical exclusion pursuant to the Council on Environmental Quality's National Environmental Policy Act (NEPA) regulations (40 CFR 1501.4), the Department of the Interior's (DOI) NEPA regulations (43 CFR 46), and the DOI's Departmental Manual (516 DM 8.5(C)(2)).

Background

The Service listed the California red-legged frog as threatened on May 23, 1996 (61 FR 25813). Section 9 of the ESA prohibits “take” of fish and wildlife species listed as threatened or endangered (16 U.S.C. 1538), where take is defined to include the following activities: “to harass, harm, pursue, hunt, shoot, wound, kill, trap, capture, or collect, or to attempt to engage in any such conduct” (16 U.S.C. 1532). Under section 10(a)(1)(B) of the ESA (16 U.S.C. 1539(a)(1)(B)), we may issue permits to authorize take of listed fish and wildlife species that is incidental to, and not the purpose of, carrying out an otherwise lawful activity. Regulations governing incidental take permits for endangered and threatened species are in the Code of Federal Regulations (CFR) at 50 CFR 17.22 and 17.32, respectively. Issuance of an ITP also must not jeopardize the existence of federally listed fish, wildlife, or plant species. The permittee would receive assurances under our “No Surprises” regulations (50 CFR 17.22(b)(5) and 17.32(b)(5)).

Applicant's Proposed Activities

The applicant has applied for a permit for incidental take of California red-legged frog. The take would occur in association with activities necessary to provide safety upgrades and replacement of the existing natural gas transmission Line 247, west of the city of Goleta at 100 El Capitan Terrace Lane within an unincorporated area of Santa Barbara County, California. Project activities would include the removal of an existing 1,200-foot-long bypass line to the west of El Capitan Creek. Removal of the bypass line will require an approximately 3-foot (ft)-wide by 1,200-ft-long trench in a 15-ft-wide workspace. Removal of the bypass line is anticipated to take approximately 6 weeks. Segment 2 of project activities will require a jack and bore method of drilling of approximately 175 linear ft to install a replacement 16-inch (in) steel pipeline by excavation of an open trench. The existing pipeline under El Capitan Creek will be abandoned in place to limit disturbance to riparian habitat. A temporary 8-in-diameter and 56-ft-long bypass line will be tied in on the eastern end to provide service during construction. Segment 2 of project activities is anticipated to take approximately 16 weeks to complete. The applicant will backfill trenches with a layer of sand slurry at the bottom and then recompact with native soil following the installation of the replacement pipeline. Additionally, the applicant will a return all excavated areas to their original grades and revegetate them with native seed mix. Project activities will not occur in El Capitan Creek or its riparian habitat; thus, no California red-legged frog breeding habitat will be disturbed. However, transient adult California red-legged frogs may be encountered in upland habitat during project activities. The nearest known location of California red-legged frogs is within 1 mile south of the project site. The proposed pipeline repair would temporarily impact dispersal habitat through ground disturbance by excavation and vegetation removal for workspace development, as well as the potential for direct injury or mortality from crushing.

The project includes minimization measures for the California red-legged frog and mitigation for unavoidable impacts to the species and its habitat. The applicant has proposed a one-time fixed payment of $21,350 to the California red-legged frog mitigation account managed by the National Fish and Wildlife Foundation to compensate for unavoidable impacts to the California red-legged frog.

Public Availability of Comments

Before including your address, phone number, email address, or other personal identifying information in your comment, you should be aware that your entire comment, including your personal identifying information, may be made publicly available at any time. While you can ask us in your comment to withhold your personal identifying information from public view, we cannot guarantee that we will be able to do so.

Authority

The Service provides this notice under section 10(c) of the Endangered Species Act (16 U.S.C. 1531 et seq.) and its implementing regulations (50 CFR 17.32) and the National Environmental Policy Act (42 U.S.C. 4321 et seq.) and its implementing regulations (40 CFR 1500-1508 and 43 CFR 46).

Stephen P. Henry,
Field Supervisor, Ventura Fish and Wildlife Office, Ventura, California.

[FR Doc. 2024-17004 Filed 8-1-24; 8:45 am]

BILLING CODE 4333-15-P